DEPARTMENT OF HOUSING AND URBAN DEVELOPMENT

[Docket No. FR-6414-N-01]

Announcement of Tenant Protection Voucher Funding Awards for Fiscal Year 2022 for the Housing Choice Voucher Program

AGENCY: Office of the Assistant Secretary for Public and Indian Housing, HUD.

ACTION: Announcement of fiscal year 2022 awards.

SUMMARY: In accordance with the Department of Housing and Urban Development (HUD) Reform Act of 1989, this document notifies the public of Tenant Protection Voucher (TPV) funding awards for fiscal year (FY) 2022 to public housing agencies (PHAs) under the Section 8 Housing Choice Voucher Program (HCVP). The purpose of this notice is to publish the names, addresses of awardees, and the amount of their non-competitive funding awards for assisting households affected by housing conversion actions, public housing relocations and replacements, and moderate rehabilitation replacements. This notice also includes a link to the TPV Dashboard Log for awards issued since FY 2020, which will provide project identification name and numbers to the reader. The log can be sorted by HUD Network, Region, Field Office, PHA code and name, and by categories of TPV under the offices of Multifamily or Public Housing.

FOR FURTHER INFORMATION CONTACT: Danielle L. Bastarache, Deputy Assistant Secretary, Office of Public Housing and Voucher Programs, Office of Public and Indian Housing, Department of Housing and Urban Development, 451 Seventh Street SW, Room 4204, Washington, DC 20410-5000, telephone (202) 402-1380. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The regulations governing the HCVP are published at 24 CFR part 982. The purpose of the rental assistance program is to assist eligible families to pay their rent for decent, safe, and sanitary housing in the private rental market. The FY 2022 awardees announced in this notice were provided HCVP TPV funds on an as-needed, non-competitive basis. TPV awards made to PHAs for program actions that displace families living in public housing were made on a first-come, first-served basis in accordance with PIH Notice 2018-04, “Voucher Funding in Connection with the Demolition or Disposition of Occupied Public Housing Units,” and PIH Notice 2021-10, “Implementation of the Federal Fiscal Year (FFY) 2021 Funding Provisions for the Housing Choice Voucher Program, and Availability of FFY 2020 Housing Assistance Payments (HAP) Set-Aside Funds for Second Round Per Unit Cost (PUC) Increases due to Unforeseen Circumstances.”

By this notice, HUD also is making the public aware that TPV awards for the Rental Assistance Demonstration (RAD) were provided for certain projects under the Second Component of RAD consistent with PIH Notice H-2020-09 PIH-2020-23(HA), REV-4, “Rental Assistance Demonstration—Final Implementation, Revision 4.

Awards published under this notice were provided (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (RAD—Second Component); (5) to provide relocation housing assistance in connection with the demolition of public housing; (6) to provide replacement housing assistance for single room occupancy (SRO) units that fail housing quality standards (HQS); (7) to assist families in public housing developments that are scheduled for demolition in connection with a HUD-approved HOPE VI revitalization or demolition grant, and (8) to assist families consistent with PIH Notice 2019-01, “Funding Availability for Set-Aside Tenant Protection Vouchers.”

A special administrative fee of $200 per occupied unit was provided to PHAs to compensate for any extraordinary HCVP administrative costs associated with the Multifamily Housing conversion actions. The Department awarded total new budget authority of $132,870,875 to recipients under all the above-mentioned categories for 13,847 housing choice vouchers. Additional details related to TPV awards made since FY 2020, including project name and identification number, are available at the following TPV Dashboard link: Housing Voucher Financial Management Division (FMD) | HUD.gov/U.S. Department of Housing and Urban Development (HUD).

In accordance with section 102(a)(4)(C) of the Department of Housing and Urban Development Reform Act of 1989 (103 Stat. 1987, 42 U.S.C. 3545), the Department is publishing the names, addresses of awardees, and their award amounts in Appendix A. The awardees are listed alphabetically by State for each type of TPV award.

Principal Deputy Assistant Secretary for Public and Indian Housing, Richard Monocchio, having reviewed and approved this document, is delegating the authority to electronically sign this document to submitter, Aaron Santa Anna, who is the Federal Register Liaison for HUD, for purposes of publication in the Federal Register.

Aaron Santa Anna,
Federal Register Liaison for the Department of Housing and Urban Development.

BILLING CODE 4210-67-P

[FR Doc. 2023-19118 Filed 9-5-23; 8:45 am]

BILLING CODE 4210-67-C